DEPARTMENT OF AGRICULTURE

Agricultural Marketing Service

[Doc. No. AMS-NOP-11-0006; NOP-11-03]

Nominations for Members of the National Organic Standards Board

AGENCY: Agricultural Marketing Service, USDA.

ACTION: Notice.

SUMMARY: The Organic Foods Production Act (OFPA) of 1990, as amended, requires the establishment of a National Organic Standards Board (NOSB). The NOSB is a 15-member board that is responsible for developing and recommending to the Secretary a proposed National List of Allowed and Prohibited Substances. The NOSB also advises the Secretary on all other aspects of the National Organic Program. The U.S. Department of Agriculture (USDA) is requesting nominations to fill five (5) upcoming vacancies on the NOSB. The positions to be filled are: Organic producer (1 position), organic handler (1 position), consumer/public interest (1 position), scientist (1 position), and an environmentalist (1 position). The Secretary of Agriculture will appoint a person to each position to serve a 5-year term of office that will commence on January 24, 2012, and run until January 24, 2017. USDA encourages eligible individuals who can demonstrate an ability to represent minorities, women, and persons with disabilities to apply for membership on the NOSB.

DATES: Written nominations, with cover letters and resumes, must be post-marked on or before July 17, 2011.

ADDRESSES: Nomination cover letters and resumes should be sent to Ms. Katherine E. Benham, Advisory Board Specialist, USDA-AMS-NOP, 1400 Independence Avenue, SW., Room 2651-So., Ag Stop 0268, Washington, DC 20250, or via e-mail to Katherine.benham@ams.usda.gov.

FOR FURTHER INFORMATION CONTACT: Ms. Katherine E. Benham, (202) 205-7806; E-mail: katherine.benham@ams.usda.gov; Fax: (202) 205-7808.

SUPPLEMENTARY INFORMATION: The OFPA of 1990, as amended (7 U.S.C. 6501 et seq.), requires the Secretary to establish an organic certification program for producers and handlers of agricultural products that have been produced using organic methods. In developing this program, the Secretary is required to establish an NOSB. The purpose of the NOSB is to assist in the development of a proposed National List of Allowed and Prohibited Substances and to advise the Secretary on other aspects of the National Organic Program.

The NOSB made recommendations to the Secretary regarding establishment of the initial organic program. It is anticipated that the NOSB will continue to make recommendations on various matters, including recommendations on substances it believes should be allowed or prohibited for use in organic production and handling.

The NOSB is composed of 15 members; 4 organic producers, 2 organic handlers, a retailer, 3 environmentalists, 3 public/consumer representatives, a scientist, and a certifying agent. Nominations are being sought to fill the following five (5) upcoming NOSB vacancies: organic producer (1 position), organic handler (1 position), consumer/public interest (1 position), scientist (1 position), and an environmentalist (1 position). Individuals desiring to be appointed to the NOSB at this time must be either an owner or operator of an organic production operation, an owner or operator of an organic handling operation, an individual who represents public interest or consumer interest groups, an individual with expertise in areas of environmental protection and resource conservation, and an individual with expertise in the fields of toxicology, ecology, or biochemistry. Selection criteria will include such factors as: Demonstrated experience and interest in organic production; organic certification; support of consumer and public interest organizations; demonstrated experience with respect to agricultural products produced and handled on certified organic farms; and such other factors as may be appropriate for specific positions.

To nominate yourself or someone else, please submit at a minimum, a cover letter stating your interest and a copy of the nominee's resume. You may also submit a list of endorsements or letters of recommendation, if desired.

Nominees will be supplied with an AD-755 background information form that must be completed and returned to USDA within 10 working days of its receipt. Resumes and completed background information forms are required for a nominee to receive consideration for appointment by the Secretary.

Equal opportunity practices will be followed in all appointments to the NOSB in accordance with USDA policies. To ensure that recommendations of the National Organic Standards Board take into account the needs of the diverse groups served by the Department, membership shall include individuals who can demonstrate an ability to represent minorities, women, and persons with disabilities.

The information collection requirements concerning the nomination process have been previously cleared by the Office of Management and Budget (OMB) under OMB Control No. 0505-0001.

Dated: March 28, 2011.
David R. Shipman,
Associate Administrator, Agricultural Marketing Service.

[FR Doc. 2011-7755 Filed 3-31-11; 8:45 am]

BILLING CODE 3410-02-P